DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed reinstatement of the “ATUS Leave and Job Flexibilities Module”. A copy of the proposed information collection request can be obtained by contacting the individual listed below in the ADDRESSES section of this notice.

DATES: Written comments must be submitted to the office listed in the ADDRESSES section of this notice on or before August 14, 2023.

ADDRESSES: Send comments to Erin Good, BLS Clearance Officer, Division of Management Systems, Bureau of Labor Statistics, Room G225, 2 Massachusetts Avenue NE, Washington, DC 20212. Written comments also may be transmitted by email to BLS_PRA_Public@bls.gov.

FOR FURTHER INFORMATION CONTACT: Erin Good, BLS Clearance Officer, at 202-691-7628 (this is not a toll free number). (See ADDRESSES section.)

SUPPLEMENTARY INFORMATION:

I. Background

The American Time Use Survey (ATUS) is the Nation's first federally administered, continuous survey on time use in the United States. It measures, for example, time spent with children, working, sleeping, or doing leisure activities. In the United States, several existing Federal surveys collect income and wage data for individuals and families, and analysts often use such measures of material prosperity as proxies for quality of life. Time-use data substantially augment these quality-of-life measures. The data also can be used in conjunction with wage data to evaluate the contribution of non-market work to national economies. This enables comparisons of production between nations that have different mixes of market and non-market activities.

The ATUS is used to develop nationally representative estimates of how people spend their time. This is done by collecting a time diary about the activities survey respondents did over a 24-hour period “yesterday,” from 4 a.m. on the day before the interview until 4 a.m. on the day of the interview. In the one-time interview, respondents also report who was with them during the activities, where they were, how long each activity lasted, and if they were paid. All of this information has numerous practical applications for sociologists, economists, educators, government policymakers, businesspersons, health researchers, and others.

The Leave and Job Flexibilities Module supports the mission of the Bureau of Labor Statistics by providing relevant information on economic and social issues. The data from the proposed module can be used for research on the relationships between work schedules, job flexibilities, access to leave, and time use. These data enhance the understanding of people's overall well-being. The module surveys employed wage and salary workers, except those who are self-employed, aged 15 and up from a nationally representative sample.

The proposed Leave and Job Flexibilities Module will collect data about workers' access to and use of paid and unpaid leave, job flexibility, and their work schedules. This includes questions about shift work, advance notice of work schedules, workers' control over their schedules, flexible start and stop times, and work at home arrangements. These questions will provide an additional dimension to analyses of workers' job flexibility data.

II. Current Action

Office of Management and Budget clearance is being sought for a 2024 Leave and Job Flexibilities Module of questions to follow the American Time Use Survey (ATUS). The proposed 2024 module will be included in the ATUS through December 2024.

The data from the proposed Leave and Job Flexibilities Module will support the BLS mission of providing relevant information on economic and social issues. The data will add to the ATUS by providing a richer description of work, specifically workers' access to paid leave, the reasons for which workers are able to take leave, and information about the availability and use of flexible and alternative work schedules. The module will also provide more information on the relationships between work schedules, job flexibilities, and time use.

The collection of the Leave and Job Flexibilities Module in 2024 is another effort to gather data on workers' access to paid and unpaid leave. A Leave Module similar to the one being proposed was attached to the ATUS in 2011 (OMB Number 1220-0175) and in 2017-18 (OMB Number 1220-0191). The 2024 ATUS Leave and Job Flexibilities Module will accomplish similar objectives as the 2011 and 2017-18 modules. Although many questions remain the same, some have been dropped and some have been added to obtain better information about the availability and use of flexible and alternative work schedules.

The information in the proposed Leave and Job Flexibilities Module is important for understanding the current nature of work and how people balance work and personal needs. The proposed Leave and Job Flexibilities questions can also be tied to previous modules to show any changes over time. Changes in workers' job flexibility and work schedules before and after the COVID-19 pandemic are of particular interest to many researchers and policy makers.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: ATUS Leave and Job Flexibilities Module.

OMB Number: 1220-0191.

Type of Review: Reinstatement, with change.

Affected Public: Individuals or Households.

Total Respondents: 4,761.

Frequency: Annually.

Total Responses: 4,761.

Average Time per Response: 5 minutes.

Estimated Total Burden Hours: 397 hours.

Comments submitted in response to this notice will be summarized and/or included in the request for Office of Management and Budget approval of the information collection request; they also will become a matter of public record.

Signed at Washington, DC, on June 7, 2023.
Leslie A. Bennett,
Chief, Division of Management Systems.

[FR Doc. 2023-12596 Filed 6-12-23; 8:45 am]

BILLING CODE 4510-24-P